NATIONAL AERONAUTICS AND SPACE ADMINISTRATION

[Notice: (18-055)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995.

DATES: All comments should be submitted within 60 calendar days from the date of this publication.

ADDRESSES: All comments should be addressed to Gatrie Johnson, Mail Code JF000, National Aeronautics and Space Administration, Washington, DC 20546-0001 or Gatrie.Johnson@NASA.gov.

FOR FURTHER INFORMATION CONTACT: Gatrie Johnson, 202-358-1013.

SUPPLEMENTARY INFORMATION:

I. Abstract

The information submitted by the public is a license application for those companies and individuals who wish to obtain a patent license for a NASA patented technology. Information needed for the license application in ATLAS may include supporting documentation such as a certificate of incorporation, a financial statement, a business and/or commercialization plan, a projected revenue/royalty spreadsheet and a company balance sheet. At a minimum, all license applicants must submit a satisfactory plan for the development and/or marketing of an invention. The collected information is used by NASA to ensure that companies that seek to commercialize NASA technologies have a solid business plan for bringing the technology to market.

II. Method of Collection

NASA is participating in Federal efforts to extend the use of information technology to more Government processes via internet. NASA encourages recipients to use the latest computer technology in preparing documentation. Companies and individuals submit license applications by completing the automated form by way of the Automated Technology Licensing Application System (ATLAS). NASA requests all license applications to be submitted via electronic means.

III. Data

Title: Automated Technology Licensing Application System (ATLAS).

OMB Number: 2700-XXXX.

Type of review: New.

Affected Public: Public and companies.

Estimated Number of Respondents: 360.

Estimated Time Per Response: 8.0 hours.

Estimated Total Annual Burden Hours: 2880 hours.

Estimated Total Annual Cost: $169,920.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology. Comments submitted in response to this notice will be summarized and included in the request for OMB approval of this information collection. They will also become a matter of public record.

Gatrie Johnson,
NASA PRA Clearance Officer.

[FR Doc. 2018-14703 Filed 7-9-18; 8:45 am]

BILLING CODE 7510-13-P